DEPARTMENT OF COMMERCE

International Trade Administration

19 CFR Part 351

[Docket No. 140929814-4814-01]

RIN 0625-AB02

Correction to Applicability Date for Modification of Regulations Regarding Price Adjustments in Antidumping Duty Proceedings

AGENCY: Enforcement and Compliance, International Trade Administration, Department of Commerce.

ACTION: Proposed rule.

SUMMARY: The Department of Commerce (the Department) proposes to modify the applicability date contained in the final rule published in the Federal Register on March 24, 2016, Modification of Regulations Regarding Price Adjustments in Antidumping Duty Proceedings, 81 FR 15641, and is seeking comments from parties. The original applicability date language did not convey the Department's intention, i.e., to apply the newly amended regulation to all segments of proceedings initiated on or after the effective date contained in the Federal Register notice. This action is necessary to ensure that there is no ambiguity in the application of the modified regulations.

DATES: To be assured of consideration, written comments must be received no later than July 5, 2016.

ADDRESSES: All comments must be submitted through the Federal eRulemaking Portal at http://www.regulations.gov, Docket No. ITA-2016-003, unless the commenter does not have access to the internet. Commenters that do not have access to the internet may submit the original and one electronic copy on CD-ROM of each set of comments by mail or hand delivery/courier. All comments should be addressed to Paul Piquado, Assistant Secretary for Enforcement & Compliance, Room 18022, Department of Commerce, 14th Street and Constitution Ave. NW., Washington, DC 20230. Comments submitted directly to the Department will be uploaded to the eRulemaking Portal at www.Regulations.gov.

The Department will consider all comments received before the close of the comment period. All comments responding to this notice will be a matter of public record and will be available on the Federal eRulemaking Portal at www.Regulations.gov. The Department will not accept comments accompanied by a request that part or all of the material be treated confidentially because of its business proprietary nature or for any other reason.

Any questions concerning file formatting, document conversion, access on the Internet, or other electronic filing issues should be addressed to Moustapha Sylla, Enforcement and Compliance Webmaster, at (202) 482-4685, email address: webmaster-support@ita.doc.gov.

FOR FURTHER INFORMATION CONTACT: Jessica Link at (202) 482-1411.

SUPPLEMENTARY INFORMATION: On March 24, 2016, the Department published a final rule in the Federal Register modifying 19 CFR 351.102(b)(38) and 19 CFR 351.401(c). Modification of Regulations Regarding Price Adjustments in Antidumping Duty Proceedings, 81 FR 15641 (March 24, 2016) (Final Rule). The Dates section of the Final Rule states: “Effective date: April 25, 2016. Applicability date: This rule will apply to all proceedings initiated on or after April 25, 2016.”

The applicability date does not convey the Department's intention, i.e., to apply the newly amended regulations to all segments of proceedings initiated on or after the effective date of the Final Rule. Although “proceedings” can be interpreted generally to include any segment of an administrative case before Enforcement and Compliance that is initiated on or after the effective date, “proceeding” and “segment of proceeding” are defined separately in 19 CFR 351.102(b)(40) and 19 CFR 351.102(b)(47), respectively. To avoid any ambiguity and to clarify the Department's intent, the applicability date is being modified such that the Final Rule will apply to segments of proceedings initiated on or after 30 days following the publication date of the final rule that results from this rulemaking. As the prior applicability date was not included in the modified regulations, 19 CFR 351.102(b)(38) and 19 CFR 351.401(c), the Department is not proposing to amend its regulations. The only change to the Final Rule being addressed in this proposed rule and request for comment is a change to the applicability date of the Final Rule. In addition, because the Department is merely clarifying its intent with respect to the applicability date of the Final Rule, and is not altering the substance of the Final Rule in any way, we are providing parties with 15 days to comment on this proposed rule.

Although one commenter commented on the effective date of the Final Rule, that comment related to which entries would be subject to the Final Rule. We disagreed with the commenter that it would be unfair to apply the rule to entries made prior to the effective date of the Final Rule. 81 FR at 15645. We addressed the entry comment but inadvertently failed to ensure that the applicability date read “segments of proceedings” rather than “proceedings” in the Final Rule.

Classification

Executive Order 12866

It has been determined that this proposed rule is not significant for purposes of Executive Order 12866.

Paperwork Reduction Act

This proposed rule contains no new collection of information subject to the Paperwork Reduction Act, 44 U.S.C. Chapter 35.

Executive Order 13132

This proposed rule does not contain policies with federalism implications as that term is defined in section 1(a) of Executive Order 13132, dated August 4, 1999 (64 FR 43255 (August 10, 1999)).

Regulatory Flexibility Act

The Chief Counsel for Regulation has certified to the Chief Counsel for Advocacy of the Small Business Administration under the provisions of the Regulatory Flexibility Act, 5 U.S.C. 605(b), that this proposed rule would not have a significant economic impact on a substantial number of small business entities. This proposed rule merely corrects the applicability date of the Final Rule, Modification of Regulations Regarding Price Adjustments in Antidumping Duty Proceedings, 81 FR 15641 (March 24, 2016), which entailed a substantive change in the Department's regulations, and for which it was determined that there would be no significant economic impact on a substantial number of small entities. As a result, this proposed correction of the applicability date of the Final Rule similarly would not have a significant economic impact on a substantial number of small entities. For this reason, an Initial Regulatory Flexibility Analysis is not required and one has not been prepared.

Dated: June 13, 2016.
Paul Piquado,
Assistant Secretary for Enforcement and Compliance.

[FR Doc. 2016-14427 Filed 6-17-16; 8:45 am]

BILLING CODE 3510-DS-P